DEPARTMENT OF ENERGY

Federal Energy Regulatory Commission

[Docket No. CP00-75-000]

Questar Pipeline Company; Notice of Application

February 4, 2000.

Take notice that on January 27, 2000, Questar Pipeline Company (Applicant) tendered for filing, an application pursuant to Section 7(b) of the Natural Gas Act (NGA) requesting authority to abandon a natural gas transportation agreement provided to Northern Natural Gas Company (Northern) under Applicant's Rate Schedule X-28 to Original Volume No. 3 of Applicant's FERC Gas Tariff, all as more fully set forth in the application which is on file with the Commission and open to public inspection. The application may be viewed on the web at www.ferc.fed.us/online/rims.htm (call (202) 208-2222 for assistance).

Applicant asserts that Rate Schedule X-28 has been inactive for more than ten years and will not be reactivated. It is further asserted that Northern agrees to the abandonment by evidence of its signature on a letter agreement dated January 5, 2000. Applicant requests an effective date of January 5, 2000, for the abandonment and does not propose to abandon or modify any existing facility in conjunction with this fling. Applicant indicates that any questions regarding this application may be directed to Mr. Alan K. Alred, Manager, Regulatory Affairs and Gas Supply Services, Questar Regulated Services Company, 180 East 100 South, P.O. Box 43560, Salt Lake City, Utah 841-45-0360, (801) 324-5768.

Any person desiring to be heard or to protest this filing should file a motion to intervene or protest with the Federal Energy Regulatory Commission, 888 First Street, N.E., Washington, D.C. 20426, by or before February 25, 2000, in accordance with Sections 385.214 and 385.211 of the Commission's Rules and Regulations (18 CFR 385.214 and 385.211). Protests will be considered by the Commission in determining the appropriate action to be taken, but will not serve to make Protestants parties to the proceeding. Any person wishing to become a party must file a motion to intervene. Copies of this filing are on file with the Commission and are available for public inspection in the Public reference Room.

Linwood A. Watson, Jr.,
Acting Secretary.

[FR Doc. 00-3321 Filed 2-11-00; 8:45 am]

BILLING CODE 6717-01-M